DEPARTMENT OF ENERGY

State Energy Advisory Board (STEAB); Meeting

AGENCY: Department of Energy.

ACTION: Notice of open meeting.

SUMMARY: This notice announces a Board meeting of the State Energy Advisory Board (STEAB). The Federal Advisory Committee Act (Pub. L. 92-463; 86 Stat. 770) requires that public notice of these meetings be announced in the Federal Register.

DATES: February 22 and 23, 2011, 8 a.m.-5 p.m.

February 24, 2011, 8 a.m.-12 p.m.

ADDRESSES: Doubletree Berkeley Marina, 200 Marina Blvd., Berkeley, CA 94710.

FOR FURTHER INFORMATION CONTACT: Gary Burch, STEAB Designated Federal Officer, Senior Management Technical Advisor, Intergovernmental Projects, Golden Field Office, U.S. Department of Energy, 1617 Cole Boulevard, Golden, CO 80401, Telephone (303) 275-4801.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Discuss ways the State Energy Advisory Board can continue to support the Department of Energy's (DOE) commercialization and deployment efforts, find ways to encourage energy efficiency market transformation, meet with scientists and senior staff at Lawrence Berkeley National Laboratory (LBNL) in order to receive updates on new and emerging technologies as well as current projects, consider potential collaborative activities with LBNL in order to facilitate renewable energy advancement and deployment, and update members of the STEAB on routine business matters affecting the Board.

Public Participation: The meeting is open to the public. Written statements may be filed with the Board either before or after the meeting. Members of the public who wish to make oral statements pertaining to agenda items should contact Gary Burch at the address or telephone number listed above. Requests to make oral comments must be received as soon as possible prior to the meeting; reasonable provision will be made to include requested topic(s) on the agenda. The Chair of the Board is empowered to conduct the meeting in a fashion that will facilitate the orderly conduct of business.

This notice is being published less than 15 days prior to the meeting date due to programmatic issues, logistical circumstances, and members' availability. Public notice of the meeting has been on the STEAB's website since January 2011.

Minutes: The minutes of the meeting will be available for public review and copying within 60 days on the STEAB Web site: www.steab.org.

Issued at Washington, DC on February 14, 2010.
Carol A. Matthews,
Committee Management Officer.

[FR Doc. 2011-3739 Filed 2-16-11; 8:45 am]

BILLING CODE 6450-01-P